DEPARTMENT OF HOMELAND SECURITY

U.S. Customs and Border Protection

Address Change for Filing Annual Election to Average for Motor Vehicles

AGENCY: U.S. Customs and Border Protection, Department of Homeland Security.

ACTION: General notice.

SUMMARY: This document announces an address change for Regulatory Audit, Office of International Trade, U.S. Customs and Border Protection, for filing annual election to average for motor vehicles. The new address for Regulatory Audit, Office of International Trade, U.S. Customs and Border Protection, is as follows: U.S. Customs and Border Protection, Office of International Trade, Regulatory Audit, 1717 H Street NW., (6th Floor), Washington, DC 20229-1141. Telephone number: 202-325-7960. Fax number 202-325-7980.

DATES: Effective February 5, 2013.

SUPPLEMENTARY INFORMATION: Regulatory Audit of the Office of International Trade has moved to a new office location. Accordingly, all filings for the annual election to average for motor vehicles under Section 11 of Appendix to Part 181, Rules of Origin Regulations of North American Free Trade Agreement, must be submitted to the above address.

Dated: January 14, 2013.
Cynthia A. Covell,
Executive Director, Regulatory Audit, Office of International Trade.

[FR Doc. 2013-02433 Filed 2-4-13; 8:45 am]

BILLING CODE 9111-14-P